ENVIRONMENTAL PROTECTION AGENCY

40 CFR Part 272

[EPA-R06-RCRA-2021-0330; FRL-9522-01-R6]

Texas: Incorporation by Reference of State Hazardous Waste Management Program

AGENCY: Environmental Protection Agency (EPA).

ACTION: Final rule.

SUMMARY: This rule codifies in the regulations the prior approval of Texas' hazardous waste management program and incorporates by reference authorized provisions of the State's statutes and regulations. The Environmental Protection Agency (EPA) uses the regulations entitled “Approved State Hazardous Waste Management Programs” to provide notice of the authorization status of State programs and to incorporate by reference those provisions of the State statutes and regulations that are authorized and that EPA will enforce under the Solid Waste Disposal Act, commonly referred to as the Resource Conservation and Recovery Act (RCRA). The EPA previously provided notices and opportunity for comments on the Agency's decisions to authorize the State of Texas program and the EPA is not now reopening the decisions, nor requesting comments, on the Texas authorizations as previously published in the Federal Register documents specified in Section I.C of this final rule document.

DATES: This regulation is effective on December 23, 2024. The Director of the Federal Register approves this incorporation by reference as of December 23, 2024, in accordance with 5 U.S.C. 552(a) and 1 CFR part 51.

ADDRESSES: The EPA has established a docket for this action under Docket ID No. EPA-R06-RCRA-2021-0330. All documents in the docket are listed on the https://www.regulations.gov website. Although listed in the index, some information is not publicly available, e.g., Confidential Business Information (CBI) or other information whose disclosure is restricted by statute. Certain other material, such as copyrighted material, will be publicly available only in hard copy. Publicly available docket materials are available electronically through https://www.regulations.gov.

You can view and copy the documents that form the basis for this codification and associated publicly available materials from 8:30 a.m. to 4:00 p.m., Monday through Friday, at the following location: EPA, Region 6, 1201 Elm Street, Suite 500, Dallas, Texas 75270, phone number: (214) 665-8533. Interested persons wanting to examine these documents should make an appointment with the office.

FOR FURTHER INFORMATION CONTACT: Alima Patterson, EPA Region 6 Regional Authorization/Codification Coordinator, RCRA Permits and Solid Waste Section (LCR-RP), Land, Chemicals and Redevelopment Division, EPA Region 6, 1201 Elm Street, Suite 500, Dallas, Texas 75270, phone number: (214) 665-8533, Email address: patterson.alima@epa.gov.

SUPPLEMENTARY INFORMATION:

I. Incorporation by Reference

A. What is codification?

Codification is the process of placing a State's statutes and regulations that comprise the State's authorized hazardous waste management program into the Code of Federal Regulations (CFR). Section 3006(b) of RCRA, as amended, allows the EPA to authorize State hazardous waste management programs to operate in lieu of the Federal hazardous waste management regulatory program. The EPA codifies its authorization of State programs in 40 CFR part 272 and incorporates by reference State statutes and regulations that the EPA will enforce under sections 3007 and 3008 of RCRA and any other applicable statutory provisions.

The incorporation by reference of State authorized programs in the CFR should substantially enhance the public's ability to discern the current status of the authorized State program and State requirements that can be federally enforced. This effort provides clear notice to the public of the scope of the authorized program in each State.

B. Why wasn't there a proposed rule before this rule?

The EPA is publishing this rule to codify Texas' authorized hazardous waste management program without a prior proposal because we believe this action is not controversial. The reason being that, in accordance with section 3006(b) of RCRA, EPA has already evaluated the State's regulatory and statutory requirements and has determined that the State's program meets the statutory and regulatory requirements established by RCRA. The EPA previously provided notices and opportunity for comments on the Agency's decisions to authorize the Texas program. The EPA is not now reopening the decisions, nor requesting new comments, on the Texas authorizations as previously published in the Federal Register documents specified in Section I.C of this final rule document. The previous authorizations form the basis for the codification addressed in this final rule.

C. What is the history of the authorization and codification of Texas' hazardous waste management program?

The State of Texas initially received final authorization on December 26, 1984 (49 FR 48300), to implement its Base Hazardous Waste Management Program. This authorization was clarified in a notice published March 26, 1985 (50 FR 11858). Texas received authorization for revisions to its program, effective October 4, 1985 (51 FR 3952), February 17, 1987 (51 FR 45320), March 15, 1990 (55 FR 7318), July 23, 1990 (55 FR 21383), October 21, 1991 (56 FR 41626), December 4, 1992 (57 FR 45719), June 27, 1994 (59 FR 16987), June 27, 1994 (59 FR 17273), November 26, 1997 (62 FR 47947), December 3, 1997 (62 FR 49163), October 18, 1999 (64 FR 44836), November 15, 1999 (64 FR 49673), September 11, 2000 (65 FR 43246), June 14, 2005 (70 FR 34371), December 29, 2008, (73 FR 64252), and July 13, 2009 (74 FR 22469); March 7, 2011 (76 FR 12283), effective May 6, 2011; March 6, 2012 (77 FR 13200), effective May 7, 2012; November 30, 2012 (77 FR 71344), effective January 29, 2013; September 3, 2014 (79 FR 52220), effective November 3, 2014; October 21, 2015 (80 FR 63691), effective December 21, 2015; December 28, 2015 (80 FR 80672), effective February 26, 2016; April 10, 2020 (85 FR 20187), effective April 10, 2020; and March 5, 2021 (86 FR 12834), effective March 5, 2021.

The EPA incorporated by reference Texas' then authorized hazardous waste program effective December 3, 1997 (62 FR 49163), November 15, 1999 (64 FR 49673), December 29, 2008 (73 FR 64252), May 6, 2011 (76 FR 12283), January 29, 2013 (77 FR 71344), and February 26, 2016 (80 FR 80672), and April 10, 2020 (85 FR 20187).

In this document, EPA is revising subpart SS of 40 CFR part 272 to include the recent authorization revision actions effective March 5, 2021 (86 FR 12834).

D. What codification decisions have we made in this rule?

In this rule, the EPA is finalizing regulatory text that includes incorporation by reference of the authorized hazardous waste management program of the State of Texas. In accordance with requirements of 1 CFR 51.5, the EPA is finalizing the incorporation by reference of the Texas rules described in the amendments to 40 CFR part 272 set forth in section 272.2201. The EPA has made, and will continue to make, these documents available electronically through https://www.regulations.gov and in hard copy at the appropriate EPA office (see the ADDRESSES section of this preamble for more information).

The purpose of this document is to codify Texas' base hazardous waste management program and the State's revisions to that program. This document incorporates by reference Texas' hazardous waste statutes and regulations and clarifies which of these provisions are included in the authorized and federally enforceable program. By codifying Texas' authorized program and by amending the Code of Federal Regulations, the public will be more easily able to discern the status of federally approved requirements of the Texas hazardous waste management program.

The EPA is incorporating by reference the Texas authorized hazardous waste program in subpart SS of 40 CFR part 272. Section 272.2201(c)(1) incorporates by reference Texas' authorized hazardous waste statutes and regulations. Section 272.2201 also references material which is not being incorporated by reference, but which EPA considered in determining the adequacy of Texas' program. Section 272.2201(c)(2) references sections of the Texas statutes which provide the legal basis for the State's implementation of the hazardous waste management program. In addition, §§ 272.2201(c)(5), (6), and (7) reference the Memorandum of Agreement, the Attorney General's Statements, and the Program Description, respectively. These documents are evaluated as part of the hazardous waste management program in accordance with subtitle C of RCRA but are not part of the material to be incorporated by reference.

State provisions that are “broader in scope” than the Federal program are not incorporated by reference in 40 CFR part 272. For reference and clarity, the EPA lists in 40 CFR 272.2201(c)(3) the Texas statutory and regulatory provisions that are “broader in scope” than the Federal program, and which are not part of the authorized program being incorporated by reference. While “broader in scope” provisions are not part of the authorized program and cannot be enforced by the EPA, the State may enforce such provisions under State law. At 40 CFR 272.2201(c)(4), EPA lists amendments to Texas regulations and Federal rules which are not part of the Texas authorized program.

E. What is the effect of Texas' codification on enforcement?

The EPA retains its authority under statutory provisions, including but not limited to, RCRA sections 3007, 3008, 3013, and 7003, and other applicable statutory and regulatory provisions to undertake inspections and enforcement actions and to issue orders in authorized States. With respect to these actions, the EPA will rely on Federal sanctions, Federal inspection authorities, and Federal procedures rather than any authorized State analogues to these provisions. Therefore, the EPA is not incorporating by reference such particular, approved Texas procedural and enforcement authorities. Section 272.2201(c)(2) of 40 CFR lists the statutory and regulatory provisions which provide the legal basis for the State's implementation of the hazardous waste management program, as well as those procedural and enforcement authorities that are part of the State's approved program, but these are not incorporated by reference.

F. What State provisions are not part of the codification?

The public needs to be aware that some provisions of Texas' hazardous waste management program are not part of the federally authorized State program. These non-authorized provisions include:

(1) Provisions that are not part of the RCRA subtitle C program because they are “broader in scope” than RCRA subtitle C (see 40 CFR 271.1(i));

(2) Federal rules for which Texas is not authorized, but which have been incorporated into the State regulations because of the way the State adopted Federal regulations by reference;

(3) Unauthorized amendments to authorized State provisions;

(4) New unauthorized State requirements;

(5) Federal rules for which Texas is authorized but which were vacated by the U.S. Court of Appeals for the District of Columbia Circuit (D.C. Cir. No. 98-1379 and 98-1379; June 27, 2014); and

(6) Federal rules which Texas adopted but which were vacated by the U.S. Court of Appeals for the District of Columbia Circuit (D.C. Cir. No. 09-1038, rulings dated July 7, 2017 and March 6, 2018).

State provisions that are “broader in scope” than the Federal program are not part of the RCRA authorized program and the EPA will not enforce them. Therefore, they are not incorporated by reference in 40 CFR part 272. For reference and clarity, 40 CFR 272.2201(c)(3) lists the Texas regulatory provisions which are “broader in scope” than the Federal program and which are not part of the authorized program being incorporated by reference. “Broader in scope” provisions cannot be enforced by the EPA; the State, however, may enforce such provisions under State law.

Additionally, Texas' hazardous waste regulations include amendments which have not been authorized by the EPA. Since the EPA cannot enforce a State's requirements which have not been reviewed and authorized in accordance with RCRA section 3006 and 40 CFR part 271, it is important to be precise in delineating the scope of a State's authorized hazardous waste program. Regulatory provisions that have not been authorized by the EPA include amendments to previously authorized State regulations as well as certain Federal rules.

Texas has adopted but is not authorized for the following Federal rules published in the Federal Register on December 31, 1985 (50 FR 53315); January 21, 1986 (51 FR 2702); September 22, 1986 (51 FR 33612); October 5, 1990 (55 FR 40834); February 1, 1991 (56 FR 3978); February 13, 1991 (56 FR 5910); April 2, 1991 (56 FR 13406); May 1, 1991 (56 FR 19951); May 13, 1991 (56 FR 21955); September 5, 1991 (56 FR 43874); September 19, 1994 (59 FR 47980); April 8, 1996 (61 FR 15660); April 12, 1996 (61 FR 16290); April 30, 1996 (61 FR 19117); June 28, 1996 (61 FR 33680); July 10, 1996 (61 FR 36419); August 26, 1996 (61 FR 43924); February 19, 1997 (62 FR 7502); June 8, 2000 (65 FR 36365); May 14, 2001 (66 FR 24270); July 3, 2001 (66 FR 35087); July 24, 2002 (67 FR 48393); October 7, 2002 (67 FR 62618); April 26, 2004 (69 FR 22601); June 16, 2005 (70 FR 35032); January 8, 2010 (75 FR 1236); December 17, 2010 (75 FR 78918); and June 26, 2014 (79 FR 36220). Therefore, these Federal amendments included in Texas' adoption by reference at 30 Texas Administrative Code (TAC) sections 335.1(146)(A)(iv), 335.27; 335.112(a)(1) and (a)(4), 335.152(a)(1) and (a)(4), 335.431(c)(1) and (c)(3), and 335.504(1) are not part of the State's authorized program and are not part of the incorporation by reference addressed by this document.

In those instances where Texas has made unauthorized amendments to previously authorized sections of State code, the EPA is identifying in 40 CFR 272.2201(c)(4)(i) any regulations which, while adopted by the State and incorporated by reference, include language not authorized by the EPA. Those unauthorized portions of the State regulations are not federally enforceable. Thus, notwithstanding the language in Texas hazardous waste regulations incorporated by reference at 40 CFR 272.2201(c)(1), the EPA will only enforce those portions of the State regulations that are actually authorized by the EPA. For the convenience of the regulated community, the actual State regulatory text authorized by the EPA for the citations listed at 272.2201(c)(4) (i.e., without the unauthorized amendments) is compiled as a separate document, Addendum to the EPA Approved Texas Regulatory Requirements Applicable to the Hazardous Waste Management Program, dated March, 2021. This document is available from EPA Region 6, 1201 Elm Street, Suite 500, Dallas, Texas 75270, phone number: (214) 665-8533.

State regulations that are not incorporated by reference in this rule at 40 CFR 272.2201(c)(1), or that are not listed in 40 CFR 272.2201(c)(2) (“legal basis for the State's implementation of the hazardous waste management program”), 40 CFR 272.2201(c)(3) (“broader in scope”) or 40 CFR 272.2201(c)(4) (“unauthorized State amendments”), are considered new unauthorized State requirements. These requirements are not federally enforceable. After review and analysis of the State's regulations, the EPA has notified the State to seek authorization for the unauthorized rules that the State has adopted and are documented in this Federal Register document. The EPA expects the State to include these rules as part of their next Program Revision Application package.

Texas has adopted and was authorized for the following Federal rules which have since been vacated by the U.S. Court of Appeals for the District of Columbia Circuit (D.C. Cir. No. 98-1379 and 08-1144, respectively, June 27, 2014): (1) the Comparable Fuels Exclusion at 40 CFR 261.4(a)(16) and 261.38 published in the Federal Register on June 19, 1998 (63 FR 33782), as amended on June 15, 2010 (75 FR 33712); and (2) the Gasification Exclusion Rule published on January 2, 2008 (73 FR 57).

With respect to any requirement pursuant to the Hazardous and Solid Waste Amendments of 1984 (HSWA) for which the State has not yet been authorized, the EPA will continue to enforce the Federal HSWA standards until the State is authorized for these provisions.

G. What will be the effect of Federal HSWA requirements on the codification?

The EPA is not amending 40 CFR part 272 to include HSWA requirements and prohibitions that are implemented by EPA. Section 3006(g) of RCRA provides that any HSWA requirement or prohibition (including implementing regulations) takes effect in authorized and not authorized States at the same time. A HSWA requirement or prohibition supersedes any less stringent or inconsistent State provision which may have been previously authorized by the EPA (50 FR 28702, July 15, 1985). The EPA has the authority to implement HSWA requirements in all States, including authorized States, until the States become authorized for such requirement or prohibition. Authorized States are required to revise their programs to adopt the HSWA requirements and prohibitions, and then to seek authorization for those revisions pursuant to 40 CFR part 271.

Instead of amending the 40 CFR part 272 every time a new HSWA provision takes effect under the authority of RCRA section 3006(g), the EPA will wait until the State receives authorization for its analog to the new HSWA provision before amending the State's 40 CFR part 272 incorporation by reference. Until then, persons wanting to know whether a HSWA requirement or prohibition is in effect should refer to 40 CFR 271.1(j), as amended, which lists each such provision.

Some existing State requirements may be similar to the HSWA requirement implemented by the EPA. However, until the EPA authorizes those State requirements, the EPA can only enforce the HSWA requirements and not the State analogs. The EPA will not codify those State requirements until the State receives authorization for those requirements.

II. Environmental Justice Considerations

Executive Order 12898 (Federal Actions To Address Environmental Justice in Minority Populations and Low-Income Populations, 59 FR 7629, Feb. 16, 1994) directs federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.” ¹

¹ https://www.epa.gov/environmentaljustice/learn-about-environmental-justice.

This rule codifies in the regulations the prior approval of Texas' hazardous waste management program and incorporates by reference authorized provisions of the State's statutes and regulations. EPA is not now reopening prior decisions. The incorporation by reference of State authorized programs in the CFR should enhance the public's ability to discern the current status of the authorized State program and State requirements that can be federally enforced. This effort provides clear notice to the public of the scope of the authorized program in each State. Therefore, we conclude that this final rule does not have disproportionately high or adverse human health or environmental effects on communities with environmental justice concerns.

III. Statutory and Executive Order Reviews

The Office of Management and Budget (OMB) has exempted this action from the requirements of Executive Order 12866 (58 FR 51735, October 4, 1993) and 13563 (76 FR 3821, January 21, 2011). This action incorporates by reference Texas' authorized hazardous waste management regulations and imposes no additional requirements beyond those imposed by State law. Therefore, this action is not subject to review by OMB. This action is not an Executive Order 13771 (82 FR 9339, February 3, 2017) regulatory action because actions such as this codification of Texas' revised hazardous waste program under RCRA are exempted under Executive Order 12866. Accordingly, I certify that this action will not have a significant economic impact on a substantial number of small entities under the Regulatory Flexibility Act (5 U.S.C. 601 et seq.). Because this action incorporates by reference pre-existing requirements under State law and does not impose any additional enforceable duty beyond that required by State law, it does not contain any unfunded mandate or significantly or uniquely affect small governments, as described in the Unfunded Mandates Reform Act of 1995 (2 U.S.C. 1531-1538). For the same reason, this action also does not significantly or uniquely affect the communities of tribal governments, as specified by Executive Order 13175 (65 FR 67249, November 9, 2000).

This action will not have substantial direct effects on the States, on the relationship between the national government and the States, or on the distribution of power and responsibilities among the various levels of government, as specified in Executive Order 13132 (64 FR 43255, August 10, 1999), because it merely incorporates by reference existing State hazardous waste management program requirements as part of the State RCRA hazardous waste management program without altering the relationship or the distribution of power and responsibilities established by RCRA.

This action also is not subject to Executive Order 13045 (62 FR 19885, April 23, 1997), because it is not economically significant and it does not make decisions based on environmental health or safety risks. This action is not subject to Executive Order 13211, “Actions Concerning Regulations That Significantly Affect Energy Supply Distribution or Use” (66 FR 28344, May 22, 2001) because it is not a significant regulatory action under Executive Order 12866.

Under RCRA section 3006(b), EPA grants a State's application for authorization as long as the State meets the criteria required by RCRA. It would thus be inconsistent with applicable law for EPA, when it reviews a State authorization application, to require the use of any particular voluntary consensus standard in place of another standard that otherwise satisfies the requirements of RCRA. The requirements being codified are the result of Texas' voluntary participation in the EPA's State program authorization process under RCRA Subtitle C. Thus, the requirements of section 10(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.). “Burden” is defined at 5 CFR 1320.3(b).

Executive Order 12898 (59 FR 7629, Feb. 16, 1994) establishes Federal executive policy on environmental justice. Because this rule codifies pre-existing State rules which are at least equivalent to, and no less stringent than existing Federal requirements, and imposes no additional requirements beyond those imposed by State law, and there are no anticipated significant adverse human health or environmental effects, the rule is not subject to Executive Order 12898.

The Congressional Review Act, 5 U.S.C. 801-808, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective November 21, 2024 because it is a final rule.

List of Subjects in 40 CFR Part 272

Environmental protection, Hazardous materials transportation, Hazardous waste, Incorporation by reference, Intergovernmental relations, Water pollution control, Water supply.

Authority: This notice is issued under the authority of Sections 2002(a), 3006 and 7004(b) of the Solid Waste Disposal Act as amended 42 U.S.C. 6912(a), 6926, 6974(b).

Dated: November 13, 2024.
Earthea Nance,
Regional Administrator, Region 6.

For the reasons set forth in the preamble, the EPA is amending 40 CFR part 272 as follows:

PART 272—APPROVED STATE HAZARDOUS WASTE MANAGEMENT PROGRAMS

1. The authority citation for part 272 continues to read as follows:

Authority: Sections 2002(a), 3006, and 7004(b) of the Solid Waste Disposal Act, as amended by the Resource Conservation and Recovery Act of 1976, as amended, 42 U.S.C. 6912(a), 6926, and 6974(b).

2. Revise § 272.2201 to read as follows:

§ 272.2201 Texas State-Administered program: Final authorization.

(a) History of the State of Texas authorization. Pursuant to section 3006(b) of RCRA, 42 U.S.C. 6926(b), the EPA granted Texas final authorization for the following elements as submitted to EPA in Texas' Base program application for final authorization which was approved by EPA effective on December 26, 1984. Subsequent program revision applications were approved effective on October 4, 1985, February 17, 1987, March 15, 1990, July 23, 1990, October 21, 1991, December 4, 1992, June 27, 1994, November 26, 1997, December 3, 1997, October 18, 1999, November 15, 1999, September 11, 2000, June 14, 2005, December 29, 2008, July 13, 2009, May 6, 2011, May 7, 2012, January 9, 2013, November 3, 2014, December 21, 2015, February 26, 2016, April 10, 2020, and March 5, 2021.

(b) Enforcement authority. The State of Texas has primary responsibility for enforcing its hazardous waste management program. However, EPA retains the authority to exercise its inspection and enforcement authorities in accordance with sections 3007, 3008, 3013, 7003 of RCRA, 42 U.S.C. 6927, 6928, 6934, 6973, and any other applicable statutory and regulatory provisions, regardless of whether the State has taken its own actions, as well as in accordance with other statutory and regulatory provisions.

(c) State statutes and regulations—(1) Incorporation by reference. The Texas statutes and regulations cited in paragraph (c)(1)(i) of this section are incorporated by reference as part of the hazardous waste management program under Subtitle C of RCRA, 42 U.S.C. 6921 et seq. This incorporation by reference is approved by the Director of the Federal Register in accordance with 5 U.S.C. 552(a) and 1 CFR part 51. You may obtain copies of the Texas statutes and regulations that are incorporated by reference in this paragraph from Thomson Reuters, 610 Opperman Drive, Eagan, MN 55123; Phone: 1-888-728-7677; website: https://legalsolutions.thomsonreuters.com. You may inspect a copy at EPA Region 6, 1201 Elm Street, Suite 500, Dallas, Texas 75270, Phone number: (214) 665-8533, or at the National Archives and Records Administration (NARA). For information on the availability of this material at NARA, email fr.inspection@nara.gov, or go to: https://www.archives.gov/federal-register/cfr/ibr-locations.html.

(i) “EPA-Approved Texas Statutory and Regulatory Requirements Applicable to the Hazardous Waste Management Program”, dated March 2021.

(ii) [Reserved]

(2) Legal basis. The following provisions provide the legal basis for the State's implementation of the hazardous waste management program, but they are not being incorporated by reference and do not replace Federal authorities:

(i) Texas Health and Safety Code (THSC) Annotated, (Vernon, 2016); Chapter 361, The Texas Solid Waste Disposal Act (TSWDA), sections 361.002, 361.016, 361.017, 361.018, 361.0215(b)(2) and (b)(3), 361.023, 361.024, 361.029, 361.032, 361.033, 361.035, 361.036, 361.037(a), 361.061, 361.063, 361.0635, 361.064, 361.0641, 361.066(b) and (c), 361.0666, 361.068, 361.069, 361.078, 361.079, 361.0791, 361.080, 361.081, 361.082 (except 361.082(a) and (f)), 361.083, 361.084, 361.085, 361.0861(c), 361.0871(b), 361.088, 361.0885, 361.089, 361.095(b)-(f), 361.096, 361.097, 361.098, 361.099(a), 361.100, 361.101, 361.102 through 361.109, 361.113, 361.114, 361.116, 361.271 through 361.275, 361.301, 361.321(a) and (b), 361.321(c) (except the phrase “Except as provided by Section 361.322(a)”), 361.321(d), 361.321(e) (except the phrase “Except as provided by Section 361.322(e)”), 361.451, 361.501 through 361.506, and 361.509(a) introductory paragraph, (a)(11), (b), (c) introductory paragraph, and (c)(2); Chapter 371, Texas Used Oil Collection, Management, and Recycling Act, sections 371.0025(b) and (c), 371.024(a), (c) and (d), 371.026(a) and (b), and 371.028.

(ii) Texas Water Code (TWC), as amended effective September 1, 2017: Chapter 5, sections 5.102 through 5.105, 5.112, 5.177, 5.351, 5.501 through 5.505, 5.509 through 5.512, 5.515, 5.551 through 5.556, and 5.557; Chapter 7, sections 7.031, 7.032, 7.051(a), 7.052(a), 7.052(c) and (d), 7.053 through 7.062, 7.064 through 7.069, 7.075, 7.101, 7.102, 7.104, 7.105, 7.107, 7.110, 7.162, 7.163, 7.176, 7.187(a), 7.189, 7.190, 7.252(1), 7.351, 7.3511, 7.353; Chapter 26, sections 26.001(13), 26.011, 26.020 through 26.022, 26.039, and 26.341 through 26.367; and Chapter 27, sections 27.003, 27.017(a), 27.018(a)-(d), and 27.019.

(iii) Texas Government Code as amended effective September 1, 2017, section 311.027.

(iv) Texas Rules of Civil Procedure, as amended effective September 1, 2017, Rule 60.

(v) Texas Administrative Code (TAC), Title 30, Environmental Quality, 2017, as amended, effective through December 31, 2016:

(A) Chapter 10; Chapter 39, sections 39.5(g) and (h), 39.11, 39.13 (except (10)), 39.103 (except (f) and (h)), 39.403(b)(1), 39.405(f)(1), 39.411 (except (b)(4)(B), (b)(10), (b)(11), and (b)(13)), 39.413 (except (10)), 39.420 (except (c) and (d)), 39.503 (except the reference to 39.405(h) in (d) introductory paragraph, and (g)), and 39.801 through 39.810;

(B) Chapter 50, sections 50.13, 50.19, 50.39, 50.113 (except (d)), 50.117(f), 50.119, 50.133, and 50.139;

(C) Chapter 55, sections 55.25(a) and (b), 55.27 (except (b)), 55.152(a)(4), 55.152(b), 55.154, 55.156 (except (d)-(g)), 55.201 (except as applicable to contested case hearings), and 55.211 (except as applicable to contested case hearings);

(D) Chapter 70, section 70.10;

(E) Chapter 281, sections 281.1 (except the clause “except as provided by . . . Prioritization Process”), 281.2 introductory paragraph and (4), 281.3(a) and (b), 281.5 (except the clause “Except as provided by . . . Discharge Permits)” and the phrases “subsurface area drip dispersal systems” and “radioactive material” in the introductory paragraph), 281.17(d) (except the references to radioactive material licenses), 281.17(e) and (f), 281.18(a) (except for the sentence “For applications for radioactive . . . within thirty days.”), 281.19(a) (except the last sentence), 281.19(b) (except the phrase “Except as provided in subsection (c) of this section”), 281.20, 281.21(a) (except “and 32” and the phrase “and the Texas Radiation Control Act.”), 281.21(b), 281.21(c) (except the phrase “radioactive materials,” in 281.21(c)(2)), 281.21(d), 281.22(a) (except the phrase “For applications for radioactive . . . to deny the license.”), 281.22(b) (except the phrase “or an injection well,” in the first sentence and the phrase “For underground injection wells . . . the same facility or activity.”), 281.23(a), and 281.24;

(F) Chapter 305, sections, 305.29, 305.30, 305.64(d) and (f), 305.66(c), 305.66(e) (except for the last sentence), 305.66(f)-(l), 305.123 (except the phrases “and 32” and “and 401”), 305.125(1) and (3), 305.125(20), 305.127(1)(B)(i), 305.127(4)(A) and (C), 305.127(6), 305.401 (except the text “§ 55.21 of this title (relating to Requests for Contested Case Hearings, Public Comment)” at (b), and 305.401(c)); and

(G) Chapter 335, sections 335.2(b), 335.43(b), 335.206, 335.391 through 335.393.

(3) Related legal provisions. The following statutory and regulatory provisions are broader in scope than the Federal program, are not part of the authorized program, and are not incorporated by reference:

(i) Texas Health and Safety Code (THSC) Annotated, (Vernon, 2016): Chapter 361, The Texas Solid Waste Disposal Act (TSWDA), sections 361.131 through 361.140; Chapter 371, Texas Used Oil Collection, Management, and Recycling Act, sections 371.021, 371.022, 371.024(e), 371.0245, 371.0246, 371.025, and 371.026(c).

(ii) Texas Administrative Code (TAC), Title 30, Environmental Quality, 2017, as amended, effective through December 31, 2016: Chapter 305, sections 305.53, 305.64(b)(4), and 305.69(b)(1)(A) (as it relates to the Application Fee); Chapter 335, sections 335.1(146) “Solid waste” (a)(iv) introductory paragraph (IBR of 40 CFR 261.4(a)(24)), 335.18(a)(6), 335.19(d), 335.27 (IBR of 40 CFR 260.43(a)(4)), 335.321 through 335.332, Appendices I and II, and 335.401 through 335.412.

(4) Unauthorized state amendments and provisions. (i) The following authorized provisions of the Texas regulations include amendments published in the Texas Register that are not approved by EPA. Such unauthorized amendments are not part of the State's authorized program and are, therefore, not Federally enforceable. Thus, notwithstanding the language in the Texas hazardous waste regulations incorporated by reference at paragraph (c)(1)(i) of this section, EPA will enforce the State provisions that are actually authorized by EPA. The effective dates of the State's authorized provisions are listed in the Table below. The actual State regulatory text authorized by EPA (i.e., without the unauthorized amendments) is available as a separate document, Addendum to the EPA-Approved Texas Regulatory and Statutory Requirements Applicable to the Hazardous Waste Management Program, dated March 2021. Copies of the document can be obtained from EPA Region 6, 1201 Elm Street, Suite 500, Dallas, TX 75270.

Table 1 to Paragraph (c)(4)(i)
State provision (December 31, 2016) | Effective date of authorized provision | Unauthorized State amendments: Texas Register reference | Unauthorized State amendments: Effective date
335.6(a) | 7/29/92 | 18 TexReg 2799 | 5/12/93
|  | 22 TexReg 12060 | 12/15/97
|  | 23 TexReg 10878 | 10/19/98
335.6(c) introductory paragraph | 7/29/92 | 17 TexReg 8010 20 TexReg 2709 | 11/27/92 4/24/95
|  | 20 TexReg 3722 | 5/30/95
|  | 21 TexReg 1425 | 3/1/96
|  | 21 TexReg 2400 | 3/6/96
|  | 22 TexReg 12060 | 12/15/97
|  | 23 TexReg 10878 | 10/19/98
|  | 26 TexReg 9135 | 11/15/01
335.6(g) | 7/29/92 | 18 TexReg 3814 | 6/28/93
|  | 22 TexReg 12060 | 12/15/97
|  | 23 TexReg 10878 | 10/19/98
335.24(b) introductory paragraph | 3/1/96 | 21 TexReg 10983 23 TexReg 10878 | 11/20/96 10/19/98
|  | 38 TexReg 970 | 2/21/13
335.24(c) introductory paragraph | 3/1/96 | 21 TexReg 10983 23 TexReg 10878 | 11/20/96 10/19/98
|  | 38 TexReg 970 | 2/21/13
335.45(b) | 9/1/86 | 17 TexReg 5017 | 7/29/92
335.204(a)(1) | 5/28/86 | 16 TexReg 6065 | 11/7/91
335.204(b)(1) | 5/28/86 | 16 TexReg 6065 | 11/7/91
335.204(b)(6) | 5/28/86 | 16 TexReg 6065 | 11/7/91
335.204(c)(1) | 5/28/86 | 16 TexReg 6065 | 11/7/91
335.204(d)(1) | 5/28/86 | 16 TexReg 6065 | 11/7/91
335.204(e)(6) | 5/28/86 | 16 TexReg 6065 | 11/7/91

(ii) Texas has partially or fully adopted, but is not authorized to implement, the Federal rules that are listed in the following table. The EPA will continue to implement the Federal HSWA requirements for which Texas is not authorized until the State receives specific authorization for those requirements. The EPA will not enforce the non-HSWA Federal rules although they may be enforceable under State law. For those Federal rules that contain both HSWA and non-HSWA requirements, the EPA will enforce only the HSWA portions of the rules.

Table 2 to Paragraph (c)(4)(ii)
Federal requirement | Federal Register reference | Publication date
Listing of Spent Solvents (HSWA) (Checklist 20 and Rule 20.1) | 50 FR 53315 51 FR 2702 | December 31, 1985. January 21, 1986.
Listing of Spent Pickle Liquor (Non-HSWA) (Checklist Rule 26.1) | 51 FR 33612 | September 22, 1986.
Toxicity Characteristic; Hydrocarbon Recovery Operations (HSWA) (Checklist 80 and Rules 80.1 and 80.2) | 55 FR 40834 56 FR 3978 56 FR 13406 | October 5, 1990. February 1, 1991. April 2, 1991.
Toxicity Characteristic; Chlorofluorocarbon Refrigerants (HSWA) (Checklist 84) | 56 FR 5910 | 56 FR 5910.
Administrative Stay for K069 Listing (Non-HSWA) (Checklist 88) | 56 FR 19951 | May 1, 1991.
Revision to the Petroleum Refining Primary and Secondary Oil/Water/Solids Separation Sludge Listings (HSWA) (Checklist 89) | 56 FR 21955 | May 13, 1991.
Coke Oven Administrative Stay (HSWA) (Checklist 98) | 56 FR 43874 | September 5, 1991.
Hazardous Waste Management System; Testing and Monitoring Activities, Land Disposal Restrictions Correction (HSWA) (Checklist Rule 126.1) | 59 FR 47980 | September 19, 1994.
Land Disposal Restrictions Phase III—Decharacterized Wastewaters, Carbamate Wastes, and Spent Potliners (HSWA) (Checklist Rules 151.1, 151.2, 151.3, 151.4, 151.5, and 151.6) | 61 FR 15660 61 FR 19117 61 FR 33680 61 FR 36419 | April 8, 1996. April 30, 1996. June 28, 1996. July 10, 1996.
| 61 FR 43924 | August 26, 1996.
| 62 FR 7502 | February 19, 1997.
Organobromine Production Wastes; Petroleum Refining Wastes; Identification and Listing of Hazardous Waste; Land Disposal Restrictions (HSWA) (Checklist 187) | 64 FR 36365 | June 8, 2000.
Hazardous Air Pollutant Standards; Technical Corrections (Non-HSWA) (Checklist Rules 188.1 and 188.2 | 66 FR 24270 66 FR 35087 | May 14, 2001. July 3, 2001.
Zinc Fertilizers Made from Recycled Hazardous Secondary Materials (HSWA and Non-HSWA) (Checklist 200) | 67 FR 48393 | July 24, 2002.
Land Disposal Restrictions: National Treatment Variance to Designate New Treatment Subcategories for Radioactively Contaminated Cadmium, Mercury-Containing Batteries and Silver-Containing Batteries (HSWA) (Checklist 201) | 67 FR 62618 | October 7, 2002.
NESHAP: Surface Coating of Automobiles and Light-Duty Trucks (Non-HSWA) (Checklist 205) | 69 FR 22601 | April 26, 2004.
Non-wastewaters from Dyes and Pigments Correction (HSWA) (Checklist Rule 206.1) | 70 FR 35032 | June 16, 2005.
Removal of Saccharin and Its Salts from the Lists of Hazardous Constituents (Non-HSWA) (Checklist Rule 225) | 75 FR 78918 | December 17, 2010.
Hazardous Waste Technical Corrections and Clarifications Rule (Non-HSWA) (Checklist 228) | 77 FR 22229 | April 13, 2012.
Revisions to the Export Provisions of the Cathode Ray Tube (CRT) Rule (HSWA) (Checklist 232) | 79 FR 36220 | June 26, 2014.

(iii) The Federal rules listed in the table below are not delegable to States. Texas has adopted these provisions and left the authority to the EPA for implementation and enforcement.

Table 3 to Paragraph (c)(4)(iii)
Federal requirement | Federal Register reference | Publication date
Imports and Exports of Hazardous Waste: Implementation of OECD Council Decision (HSWA) (Checklist 152) | 61 FR 16290 | April 12, 1996.
OECD Requirements; Export Shipments of Spent Lead-Acid Batteries (Non-HSWA) (Checklist 222) | 75 FR 1236 | January 8, 2010.

(iv) Texas has chosen not to adopt, and is not authorized to implement, the following optional Federal rules:

Table 4 to Paragraph (c)(4)(iv)
Federal requirement | Federal Register reference | Publication date
Storage, Treatment, Transportation and Disposal of Mixed Waste (Non-HSWA) (Checklist 191) | 66 FR 27218 | May 16, 2001.
Inorganic Chemical Manufacturing Waste Identification and Listing (HSWA/Non-HSWA) (Checklist Rule 195.1) | 67 FR 17119 | April 9, 2002.
Revisions to the Definition of Solid Waste (Non-HSWA) (Checklist 219) | 73 FR 64668 | October 30, 2008.
Expansion of RCRA Comparable Fuel Exclusion (Non-HSWA) (Checklist 221) | 73 FR 77954 | December 19, 2008.
Withdrawal of the Emission Comparable Fuel Exclusion (Non-HSWA) (Checklist 224) | 73 FR 33712 | June 15, 2010.

(5) Vacated Federal rules. (i) Texas adopted and was authorized for the following Federal rules which have since been vacated by the U.S. Court of Appeals for the District of Columbia Circuit (D.C. Cir. No. 98-1379 and 08-1144, respectively; June 27, 2014):

Table 5 to Paragraph (c)(5)(i)
Federal requirement | Federal Register reference | Publication date
Hazardous Waste Combustors; Revised Standards (HSWA) (Checklist 168—40 CFR 261.4(a)(16) and 261.38 only) | 63 FR 33782 | June 19, 1998.
Exclusion of Oil-Bearing Secondary Materials Processed in a Gasification System to Produce Synthesis Gas (Checklist 216—Definition of “Gasification” at 40 CFR 260.10 and amendment to 40 CFR 261.4(a)(12)(i)) | 73 FR 57 | January 2, 2008.

(ii) Texas has adopted the following Federal provisions from the Revisions to the Definition of Solid Waste Rule (80 FR 1694); January 13, 2015, which have since been vacated by the United States Court of Appeals for the District of Columbia Circuit (Am. Petroleum Inst. v. EPA, 862 F.3d 50 (D.C. Cir. 2017) and Am. Petroleum Inst. v. EPA, No. 09-1038 (D.C. Cir. Mar. 6, 2018):

(A) one criterion in the determination of whether recycling is legitimate at 40 CFR 260.43(a)(4);

(B) one criterion related to the management of hazardous secondary materials at verified recycler facilities at 40 CFR 260.30(f);

(C) one criterion in the variance determination for exceptions to the classification of hazardous secondary materials as a solid waste (at 40 CFR 260.31(d)(6)); and

(D) the verified recycler exclusion, which allowed generators to send their hazardous secondary materials to certain reclaimers at 40 CFR 261.4(a)(24).

(6) Memorandum of Agreement. The Memorandum of Agreement between EPA Region 6 and the State of Texas was signed by the Executive Director of the Texas Commission on Environmental Quality (TCEQ) on December 20, 2011, and by the EPA Regional Administrator on February 17, 2012. The 2012 Memorandum of Agreement was re-certified by the Executive Director of the TCEQ on March 26, 2015, and the EPA Regional Administrator on September 30, 2015, and is referenced as part of the authorized hazardous waste management program under Subtitle C of RCRA, 42 U.S.C. 6921 et seq.

(7) Statement of legal authority. “Attorney General's Statement for Final Authorization”, signed by the Attorney General of Texas on May 22, 1984 and revisions, supplements, and addenda to that Statement dated November 21, 1986, July 21, 1988, December 4, 1989, April 11, 1990, July 31, 1991, February 25, 1992, November 30, 1992, March 8, 1993, January 7, 1994, August 9, 1996, October 16, 1996, as amended February 7, 1997, March 11, 1997, January 5, 1999, November 2, 1999, March 1, 2002, July 16, 2008, December 6, 2011, February 22, 2013, June 10, 2016, and July 9, 2020 are referenced as part of the authorized hazardous waste management program under Subtitle C of RCRA, 42 U.S.C. 6921 et seq.

(8) Program Description. The Program Description and any other materials submitted as part of the original application or as supplements thereto are referenced as part of the authorized hazardous waste management program under subtitle C of RCRA, 42 U.S.C. 6921 et seq.

3. Appendix A to part 272 is amended by revising the listing for “Texas” to read as follows:

Appendix A to Part 272—State Requirements

* * * * *

Texas

The statutory provisions include:

Texas Health and Safety Code (THSC) Annotated, (Vernon, 2016): Chapter 361, The Texas Solid Waste Disposal Act, sections 361.003 (except (3), (6), (11), (14), (14-a), (15), (18-a), (19), (27), (33), (35), (37), and (39)), 361.019(a), 361.0235, 361.066(a), 361.082(a) and (f), 361.086, 361.087, 361.0871(a), 361.094, 361.095(a), 361.099(b), and 361.110; Chapter 371, The Texas Used Oil Collection, Management, and Recycling Act, sections 371.003, 371.024(b), 371.026(d), and 371.041.

Copies of the Texas statutes that are incorporated by reference are available from Thomson Reuters, 610 Opperman Drive, Eagan, MN 55123; Phone: 1-888-728-7677; website: https://legalsolutions.thomsonreuters.com.

The regulatory provisions include:

Texas Administrative Code (TAC), Title 30, Environmental Quality, 2017, as amended, effective through December 31, 2016. Please note that for some provisions, the authorized versions are found in the TAC, Title 30, Environmental Quality, as amended effective January 1, 1994, January 1, 1997, December 31, 1999, December 31, 2001, December 31, 2012,

December 31, 2014, or January 8, 2015. Texas made subsequent changes to these provisions, but these changes have not been authorized by EPA. Where the provisions are taken from regulations other than those effective December 31, 2016, notations are made below.

Chapter 3, Section 3.2(25) “Person”; Chapter 20, Section 20.15; Chapter 35, Section 35.402(e); Chapter 37, Sections 37.1 through 37.81, 37.100 through 37.161, 37.200 through 37.281, 37.301 through 37.381, 37.400 through 37.411, 37.501 through 37.551, 37.601 through 37.671, and 37.6001 through 37.6041; Chapter 281, Section 281.3(c);

Chapter 305, Subchapter A—General Provisions, Sections 305.1(a) (except the reference to Chapter 401, relative to Radioactive Materials); 305.2 introductory paragraph (except the references to THSC sections 401.003 and 401.004, relative to Radioactive Materials and the reference to TWC 32.002); 305.2(1), (6), (11), (12), (14), (15), (19), (20), (24), (26), (27), (28), (31), and (40)-(42); 305.3;

Chapter 305, Subchapter C—Application for Permit or Post-Closure Order, Sections 305.41 (except the reference to Chapter 401, relative to Radioactive Materials and the reference to TWC Chapter 32); 305.42(a), (b), (d), and (f); 305.43(b); 305.44 (except (d)); 305.45 (except (a)(7)(I) and (J) and reference to “and for a Post-closure order” at 305.45(a)(8)(C)); 305.47; 305.50(a) introductory paragraph—(a)(3) (except the last two sentences in 305.50(a)(2)); 305.50(a)(4) (December 31, 2012); 305.50(a)(5)-(a)(8); 305.50(a)(13)-(a)(16); 305.50(b); 305.51;

Chapter 305, Subchapter D—Amendments, Renewals, Transfers, Corrections, Revocation, and Suspension of Permits, Sections 305.61; 305.62(a) (except the phrase in the first sentence “under § 305.70 of this title . . . Solid Waste Class I Modifications)” and the fifth sentence “If the permittee requests a modification of a municipal solid waste permit . . . § 305.70 of this title.”); 305.62(b); 305.62(c) introductory paragraph (except the phrase “other than . . . subsection (i) of this section”); 305.62(c)(1); 305.62(c)(2) introductory paragraph; 305.62(c)(2)(A) (except the phrase “except for Texas Pollutant Discharge Elimination System (TPDES) permits,”); 305.62(c)(2)(B) (except the phrase “except for TPDES permits”); 305.62(d) (except (d)(6)); 305.62(e)-(h); 305.63(a) (except the last sentence of (a)(3), and (a)(7)); 305.64(a); 305.64(b) (except (b)(4) and (b)(5)); 305.64(c) and (e); 305.64(g); 305.65; 305.66(a) (except (a)(7)-(a)(9)); 305.66(d); 305.67(a) and (b); 305.69(a); 305.69(b) (except the phrases “Additional Contents of Application for an Injection Well Permit” and “Waste Containing Radioactive Materials; and Application Fee” at (b)(1)(A)); 305.69(c); 305.69(d) (except (d)(7)); 305.69(e)-(h); 305.69(i)(3) and (i)(4); 305.69(j); 305.69(k) (except (k) A.8-A.10);

Chapter 305, Subchapter F—Permit Characteristics and Conditions, Sections 305.121 (except the phrases “radioactive material disposal” and “subsurface area drip dispersal systems”); 305.122 (except (e)); 305.124; 305.125 introductory paragraph; 305.125(2) and (4); 305.125(5) (except the second sentence); 305.125(6)-(8); 305.125(9) (except (9)(C)); 305.125(10) (except the phrases “and 32” and “and 401.603”); 305.125(11) (except the phrase “as otherwise required by Chapter 336 of this title” relative to Radioactive Substances in (11)(B)); 305.125(12)-(19), and (21); 305.127 introductory paragraph; 305.127(1)(B)(iii); 305.127(1)(E) and (F); 305.127(2); 305.127(3)(A) (except the last two sentences); 305.127(3)(B) and (C); 305.127(4)(B); 305.127(5)(C); 305.128;

Chapter 305, Subchapter G—Additional Conditions for Hazardous and Industrial Solid Waste Storage, Processing, or Disposal Permits, Sections 305.141 through 305.145; 305.150;

Chapter 305, Subchapter I—Hazardous Waste Incinerator Permits, Sections 305.171 through 305.176;

Chapter 305, Subchapter J—Permits for Land Treatment Demonstrations Using Field Tests or Laboratory Analyses, Sections 305.181 through 305.184;

Chapter 305, Subchapter K—Research, Development, and Demonstration Permits, Sections 305.191 through 305.194;

Chapter 305, Subchapter L—Groundwater Compliance Plan, Section 305.401(c);

Chapter 305, Subchapter Q—Permits for Boilers and Industrial Furnaces Burning Hazardous Waste, Sections 305.571 through 305.573;

Chapter 305, Subchapter R—Resource Conservation and Recovery Act Standard Permits for Storage and Treatment Units, Sections 305.650 through 305.661;

Chapter 324, Subchapter A—Used Oil Recycling, Sections 324.1; 324.2 (except 324.2(2)); 324.3 (except 324.3(5)); 324.4; 324.6; 324.7; 324.11 through 324.16; 324.21; 324.22(d)(3);

Chapter 335, Subchapter A—Industrial Solid Waste and Municipal Hazardous Waste in General, Sections 335.1 introductory paragraph—(4), (6)-(12), (16)-(19), (21)-(23), (27), (28), (30)-(35), (38), (40), (42)-(51), (52) (except for the phrase “or is used for neutralizing the pH of non-hazardous industrial solid waste”), (54)-(59), (61)-(65), (67), (68), (70), (71), (73)-(82), (84)-(120) (except the phrase “solid waste or” at (94), (95), (96), (99), (100), and (105)), (122)-(124) (except the phrase “solid waste or” at (122)), (128)-(134) (except two instances of the phrase “solid waste or” at (129)), (136), (138)-(142), (144)-(146)(A)(iii), (146)(A)(iv) introductory paragraph (except the last sentence and the IBR of 40 CFR 261.4(a)(24)), (146)(B)-(G) (except the phrase “Except for materials described in subparagraph (H) of this paragraph.” at (D) and (G) introductory paragraphs), (146)(I)-(K), (147), (148), (150)-(160) (except the phrase “solid waste or” at (153), (156) and (158)), (161)-(165) (except the phrase “or industrial solid” at (161), (164), and (165)), (167)-(180) (except two instances of the phrase “solid waste or” at (170)), (181) (except the phrase “or industrial solid” at (181)(B)), (182)-(184), and (185) (except two instances of the phrase “solid waste or”); 335.2 (except (b), (d), (h), (k) and (n)); 335.4; 335.5 (except (d)); 335.6(a); 335.6(b) (January 1, 1997); 335.6(c); 335.6(d) (except the last sentence) (January 1, 1994); 335.6(e) (January 1, 1994); 335.6(f) and (g); 335.6(h) (except the third sentence); 335.6(i) and (j); 335.7; 335.8(a)(1) and (2); 335.9(a) (except (a)(2) and (3)); 335.9(a)(2) and (3) (January 1, 1997); 335.9(b) (January 1, 1994); 335.10(a) and (b); 335.11(a); 335.12(a); 335.13(a) (January 1, 1997); 335.13(c) and (d) (January 1, 1994); 335.13(e) and (f) (January 1, 1997); 335.13(g) (January 1, 1994); 335.13(k); 335.14; 335.15 introductory paragraph (January 1, 1994); 335.15(1); 335.15(3) (except two references to “Class 1 waste” at introductory paragraph); 335.17(a); 335.18(a) (except (a)(6); 335.19 (except 335.19(d) and (e)); 335.20 through 335.23(1); 335.23(2) (January 1, 1994); 335.24(a)-(f); 335.24(m) and (n); 335.26; 335.27 (except the IBR of 40 CFR 260.43(a)(4)); 335.29 (except 335.29(3)); 335.29(3) (December 31, 2014); 335.30 through 335.32;

Chapter 335, Subchapter B—Hazardous Waste Management General Provisions, Sections 335.41(a)-(c); 335.41(d) introductory paragraph and (d)(2)-(4); 335.41(d)(1) (December 31, 2001); 335.41(e)-(j); 335.43(a); 335.44; 335.45; 335.47 (except (b) and second sentence in (c)(3)); 335.47(b) (December 31, 1999);

Chapter 335, Subchapter C—Standards Applicable to Generators of Hazardous Waste, Sections 335.61 (except (f)); 335.62; 335.63; 335.65 through 335.68; 335.69 (except “and (n)” in (a) introductory paragraph, (i), and (n)); 335.70; 335.71; 335.73 through 335.75; 335.76 (except (h)); 335.77; 335.78(a); 335.78(b) (January 1, 1997); 335.78(c); 335.78(d) (except (d)(2)); 335.78(e) introductory paragraph (January 1, 1997); 335.78(e)(1) and (2); 335.78(f) (except 335.78(f)(2)); 335.78(f)(2) (January 1, 1997); 335.78(g) (except (g)(2)); 335.78(g)(2) (January 1, 1997); 335.78(h)-(j); 335.79;

Chapter 335, Subchapter D—Standards Applicable to Transporters of Hazardous Waste, Sections 335.91 (except (e)); 335.92; 335.93 (except (e)); 335.93(e) (December 31, 1999); 335.94;

Chapter 335, Subchapter E—Interim Standards for Owners and Operators of Hazardous Waste Treatment, Storage, or Disposal Facilities, Sections 335.111; 335.112 (except (a)(17)); 335.113; 335.115 through 335.128;

Chapter 335, Subchapter F—Permitting Standards for Owners and Operators of Hazardous Waste Treatment, Storage, or Disposal Facilities, Sections 335.151 through 335.153; 335.155 through 335.179;

Chapter 335, Subchapter G—Location Standards for Hazardous Waste Storage, Processing, or Disposal, Sections 335.201(a) (except (a)(3)); 335.201(c); 335.202 introductory paragraph; 335.202(2), (4), (9)-(11), (13), and (15)-(18); 335.203; 335.204(a) introductory paragraph—(a)(5); 335.204(b)(1)-(6); 335.204(c)(1)-(5); 335.204(d)(1)-(5); 335.204(e) introductory paragraph; 335.204(e)(1) introductory paragraph (except the phrase “Except as . . . (B) of this paragraph,” and the word “event” at the end of the paragraph); 335.204(e)(2)-(7); 335.204(f); 335.205(a) introductory paragraph—(a)(2) and (e);

Chapter 335, Subchapter H—Standards for the Management of Specific Wastes and Specific Types of Facilities, Sections 335.211 through 335.214; 335.221 through 335.225; 335.241(except (b)(4)); 335.251; 335.261 (except (e)); 335.271; 335.272;

Chapter 335, Subchapter O—Land Disposal Restrictions, Section 335.431;

Chapter 335, Subchapter R—Waste Classification, Sections 335.504 (except (2)); 335.504(2) (January 8, 2015, 40 TexReg 77; August 22, 2014 proposed rule, 39 TexReg 6376);

Chapter 335, Subchapter U, Standards for Owners and Operators of Hazardous Waste Facilities Operating Under a Standard Permit, Sections 601 and 602;

Chapter 335, Subchapter V, Standards for Reclamation of Hazardous Secondary Materials, Sections 701 through 706.

Copies of the Texas regulations that are incorporated by reference are available from Thomson Reuters, 610 Opperman Drive, Eagan, MN 55123; Phone: 1-888-728-7677; website: https://legalsolutions.thomsonreuters.com.

* * * * *

[FR Doc. 2024-26905 Filed 11-20-24; 8:45 am]

BILLING CODE 6560-50-P